DEPARTMENT OF THE INTERIOR

National Park Service

[NPS-WASO-NAGPRA-NPS0030988; PPWOCRADN0-PCU00RP14.R50000]

Notice of Inventory Completion: University of California Berkeley, Berkeley, CA

AGENCY: National Park Service, Interior.

ACTION: Notice.

SUMMARY: The University of California Berkeley has completed an inventory of human remains and associated funerary objects, in consultation with the appropriate Indian Tribes or Native Hawaiian organizations, and has determined that there is a cultural affiliation between the human remains and present-day Native Hawaiian organizations. Lineal descendants or representatives of any Indian Tribe or Native Hawaiian organization not identified in this notice that wish to request transfer of control of these human remains should submit a written request to the Office of the Vice Chancellor for Research, University of California Berkeley. If no additional requestors come forward, transfer of control of the human remains to the Native Hawaiian organizations stated in this notice may proceed.

DATES: Lineal descendants or representatives of any Indian Tribe or Native Hawaiian organization not identified in this notice that wish to request transfer of control of these human remains should submit a written request with information in support of the request to the Office of the Vice Chancellor for Research, University of California Berkeley November 16, 2020.

ADDRESSES: Dr. Thomas Torma, NAGPRA Liaison, Office of the Vice Chancellor for Research, University of California Berkeley, 119 California Hall, Berkeley, CA 94720-1500, telephone (510) 672-5388, email t.torma@berkeley.edu.

SUPPLEMENTARY INFORMATION: Notice is here given in accordance with the Native American Graves Protection and Repatriation Act (NAGPRA), 25 U.S.C. 3003, of the completion of an inventory of human remains and associated funerary objects under the control of the University of California Berkeley, Berkeley, CA. The human remains were removed from a burial cave on the island of Hawaii, HI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of California Berkeley NAGPRA Advisory Committee staff in consultation with representatives of the Office of Hawaiian Affairs (OHA). The OHA was established in 1978, through amendments to the Hawaii State Constitution, to achieve self-governance and to represent the lawful interests of Native Hawaiians. Under NAGPRA, the OHA is a Native Hawaiian Organization (NHO).

History and Description of the Remains

In 1905, human remains representing, at minimum, one individual were removed from a burial cave on the island of Hawaii by Annie M. Alexander. The individual is represented by a mandible. Ms. Alexander, who founded the University of California, Berkeley Museum of Vertebrate Zoology, donated the mandible to the museum, where it comprises part of a larger legacy collection. No known individuals were identified. No associated funerary objects are present.

Determinations Made by the University of California Berkeley

Officials of the University of California Berkeley have determined that:

• Pursuant to 25 U.S.C. 3001(10), the human remains described in this notice represent the physical remains of one individual of Native Hawaiian ancestry.

• Pursuant to 25 U.S.C. 3001(2), there is a relationship of shared group identity that can be reasonably traced between the Native Hawaiian human remains and the Office of Hawaiian Affairs.

Additional Requesters and Disposition

Lineal descendants or representatives of any Indian Tribe or Native Hawaiian organization not identified in this notice that wish to request transfer of control of these human remains and should submit a written request with information in support of the request to Dr. Thomas Torma, NAGPRA Liaison, Office of the Vice Chancellor for Research, University of California Berkeley, 119 California Hall, Berkeley, CA 94720-1500, telephone (510) 672-5388, email t.torma@berkeley.edu, by November 16, 2020. After that date, if no additional requestors have come forward, transfer of control of the human remains to the Office of Hawaiian Affairs may proceed.

The University of California Berkeley is responsible for notifying the Office of Hawaiian Affairs that this notice has been published.

Dated: September 28, 2020.
Melanie O'Brien,
Manager, National NAGPRA Program.

[FR Doc. 2020-22918 Filed 10-15-20; 8:45 am]

BILLING CODE 4312-52-P